DEPARTMENT OF DEFENSE

Department of the Navy

[Docket ID: USN-2014-0022]

Proposed Collection; Comment Request

AGENCY: Navy Exchange Service Command (NEXCOM), DON, DoD.

ACTION: Notice.

SUMMARY: In compliance with the Paperwork Reduction Act of 1995, the Navy Exchange Service Command (NEXCOM) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 2, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Navy Exchange Service Command (NEXCOM), 3280 Virginia Beach Boulevard, Virginia Beach, VA 23452, ATTN: Richard Moutvic or call Richard Moutvic, Market Insights Department at 757-631-3907.

SUPPLEMENTARY INFORMATION:

Title; Associated Form; and OMB Number: Pentagon/Mark Center Food Satisfaction Survey; OMB Control Number 0703-TBD.

Needs and Uses: The Memorandum of Agreement (MOA) between the Department of Defense Concessions Committee (DoDCC) and the Navy Exchange Service Command (NEXCOM), dated 01 January 2014 contracts the Navy Exchange Service Command to manage and run food operations in the Pentagon and Mark Center. As part of the MOA, NEXCOM is required to conduct periodic customer satisfaction surveys to assess food service operator performance. The survey is also critical to identifying deficiencies in food operator performance, hygiene or safety. The survey provides valuable customer feedback which is used to evaluate the performance of food vendors.

Affected Public: Individuals or Households.

Annual Burden Hours: 333.

Number of Respondents: 2000.

Responses Per Respondent: 1.

Average Burden Per Response: 10 minutes.

Frequency: Annual.

Respondents are the customers of the food outlets at the Pentagon and Mark Center managed by NEXCOM for the DoDCC. The feedback gained from the survey is critical to providing our customers the Pentagon and Mark Center with enjoyable and healthy food options. It is a best business practice for food service companies to conduct frequent or ongoing feedback from their customers. Because NEXCOM uses multiple food vendors, it is critical that the questions asked be consistent, and that the time period for collection of the feedback be the same.

Dated: October 29, 2014.
Aaron Siegel,
Alternate OSD Federal Register Liaison Officer, Department of Defense.

[FR Doc. 2014-26034 Filed 10-31-14; 8:45 am]

BILLING CODE 5001-06-P